DEPARTMENT OF VETERANS AFFAIRS

Health Services Research and Development Service Merit Review Board; Notice of Meeting

The Department of Veterans Affairs (VA) gives notice under Public Law 92-463 (Federal Advisory Committee Act) that a meeting of the Health Services Research and Development Service Scientific Merit Review Board will be held August 18-20, 2009, at the Doubletree Denver Tech, 7801 East Orchard Road, Greenwood Village, Colorado. Various subcommittees of the Board will meet during the review period. Each subcommittee meeting will be open to the public the first day for approximately one half-hour from 8 a.m. until 8:30 a.m. to cover administrative matters and to discuss the general status of the program. The remaining portion of the meetings will be closed. The closed portion of each meeting will involve discussion, examination, reference to, and oral review of the research proposals and critiques.

The purpose of the Board is to review research and development applications involving the measurement and evaluation of health care services, the testing of new methods of health care delivery and management, and nursing research. Applications are reviewed for scientific and technical merit.

Recommendations regarding funding are submitted to the Office of Research and Development's Chief Research and Development Officer.

On August 18, the Nursing Research Initiative subcommittee will convene from 8 a.m. until noon and the Career Development subcommittee will convene from 8 a.m. until 5 p.m.

On August 19, the Health Services Research A, Health Services Research B, Health Services Research C, Health Services Research D, and Health Services Research E subcommittees will convene from 8 a.m. until 5 p.m. In the afternoon, the Career Development subcommittee will reconvene from 1 p.m. until 5 p.m.

On August 20, the Health Services Research A-E subcommittees will reconvene from 8 a.m. until noon. In the afternoon, the Health Services Research F subcommittee will convene from 1 p.m. until 5 p.m.

After the subcommittees meet, there will be a debriefing provided to members of the Board. The purposes of the debriefing are to discuss the outcomes of the review sessions and to ensure the continued integrity and consistency of the review process.

During the closed portion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing portions of each meeting is in accordance with 5 U.S.C. 552b(c)(6) and (9)(B).

Those who plan to attend the open portion should contact Ms. Rita Lysik, Scientific Merit Review Coordinator, Health Services Research and Development Service (124R), Department of Veterans Affairs, 810 Vermont Avenue, NW., Washington, DC 20420, at least five days prior to the meeting. For further information, please call (202) 461-1524.

Dated: July 15, 2009.
By Direction of the Secretary.
E. Philip Riggin,
Committee Management Officer.

[FR Doc. E9-17197 Filed 7-20-09; 8:45 am]

BILLING CODE P